DEPARTMENT OF ENERGY

Federal Energy Regulatory Commission

[Project No. 11480-028]

Haida Energy, Inc.; Notice of Application Accepted For Filing, Soliciting Comments, Motions To Intervene, and Protests

Take notice that the following hydroelectric application has been filed with the Commission and is available for public inspection:

a. Type of Application: Amendment of License.

b. Project No.: 11480-028.

c. Date Filed: March 3, 2016.

d. Applicant: Haida Energy, Inc. (HEI).

e. Name of Project: Híilangaay Hydroelectric Project.

f. Location: On Reynolds Creek, near the town of Hydaburg, Alaska.

g. Filed Pursuant to: Federal Power Act, 16 U.S.C. 791a-825r.

h. Applicant Contact: Glen D. Martin, Alaska Power & Telephone Company, P.O. Box 3222, Port Townsend, WA 98368 (360) 385-1733 x122, Email: glen.m@aptalaska.com.

i. FERC Contact: Mr. M. Joseph Fayyad, (202) 502-8759, Mo.Fayyad@ferc.gov, and Marybeth Gay, (202) 502-6125, Marybeth.Gay@ferc.gov.

j. Deadline for filing comments, motions to intervene and protests, is 30 days from the issuance date of this notice. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-11480-028.

k. Description of Request: HEI requests amendment of several provisions in its license for the unconstructed Híilangaay Hydroelectric Project, based on a Fish Habitat Permit issued by Alaska Department of Fish and Game and several factors it has identified that adversely affect the project economics. Specifically, based on consultations with state and federal agencies, HEI proposes a series of changes to the project description and affected license articles: (1) Move the penstock alignment further to the north; (2) move the location of the powerhouse about 80 feet further back from Reynolds Creek; (3) modify the tailrace length as a result of moving the powerhouse location; (4) add an access road to the diversion area on the south side of Rich's Pond; (5) adjust the proposed transmission line pole locations and widen the transmission line right of way in the Jumbo Island area to minimize tree-fall hazards to the transmission line; (6) increase the project's hydraulic capacity from 90 cfs to 100 cfs; (7) change the starting date for in-water construction window; (8) remove the “perched ledge” design requirement for the tailrace; (9) change the ramping rates requirement to apply only to flow decreases; (10) replace the requirement for a shunt pipeline with jet deflectors on the turbine and eliminate a synchronous bypass valve from the powerhouse design; and (11) change the fish screen design from a retractable T-cylinder screen to a conventional bar screen.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 24, 2016.
Nathaniel J. Davis, Sr.,
Deputy Secretary.

[FR Doc. 2016-15563 Filed 6-29-16; 8:45 am]

BILLING CODE 6717-01-P